SMALL BUSINESS ADMINISTRATION

[Declaration of Disaster #3508]

Commonwealth of Kentucky; (Amendment # 2)

In accordance with the notice received from the Department of Homeland Security—Federal Emergency Management Agency, effective June 23, 2003, the above numbered declaration is hereby amended to include Graves County in the Commonwealth of Kentucky as a disaster area due to damages caused by severe storms, flooding, mud and rock slides, and tornadoes occurring on May 4 through May 27, 2003.

In addition, applications for economic injury loans from small businesses located in the contiguous counties of Ballard, Calloway, Carlisle, Hickman, Marshall, and McCracken in the Commonwealth of Kentucky, and Henry and Weakley counties in the State of Tennessee may be filed until the specified date at the previously designated location. All other counties contiguous to the above named primary counties have been previously declared.

The number for economic injury for the State of Tennessee is 9W1200.

All other information remains the same, i.e., the deadline for filing applications for physical damage is August 4, 2003, and for economic injury the deadline is March 3, 2004.

(Catalog of Federal Domestic Assistance Program Nos. 59002 and 59008)
Dated: June 24, 2003.
Herbert L. Mitchell,
Associate Administrator for Disaster Assistance.

[FR Doc. 03-16476 Filed 6-27-03; 8:45 am]

BILLING CODE 8025-01-P